DEPARTMENT OF DEFENSE

Defense Logistics Agency

Notice of Availability of a Draft Environmental Impact Statement; Mercury Management

AGENCY: Defense National Stockpile Center, DLA, DoD.

ACTION: Notice of availability of a Draft Mercury Management Environmental Impact Statement.

SUMMARY: The Defense Logistics Agency (DLA) announces the availability of its Draft Mercury Management Environmental Impact Statement (Draft EIS). This announcement is pursuant to the Council on Environmental Quality's regulations (40 CFR parts 1500-1508) and the Defense Logistic Agency's (DLA) regulations (DLAR 1000.22) that implement the National Environmental Policy Act (NEPA).

The Defense National Stockpile Center (DNSC) inventory of elemental mercury (approximately 4,436 metric tons) is currently stored in enclosed warehouses at four sites in the United States: Near New Haven, IN; in Oak Ridge, TN; in Hillsborough, NJ; and near Warren, OH. Because the mercury has been declared in excess of national defense needs, DNSC must decide on a strategy for the long-term management of this excess commodity. The Draft EIS analyzes three alternatives for managing the National Defense Stockpile inventory of excess mercury: (1) No-action, i.e., leave the mercury at the existing storage locations, (2) consolidated storage of the mercury stockpile at one site, and (3) sale of the stockpile. DNSC's preferred alternative is (2) consolidated storage. The Draft EIS evaluates a range of locations that would be acceptable consolidation sites.

Public comments are invited and encouraged concerning the analysis of environmental and socioeconomic issues, as well as the management alternatives considered in the Draft EIS.

DATES: Public meetings are scheduled to be held as follows: May 20, 2003 in New Haven, IN; May 22 in Niles, OH; June 10 in Hawthorne, NV; June 12 in Tooele, UT; June 17 in Hillsborough, NJ; June 24 in Washington, DC; and July 1 in Oak Ridge, TN. The times and locations of the meetings are provided in the SUPPLEMENTARY INFORMATION section of this announcement. The comment period ends on July 18, 2003. Comments on the Draft EIS must be postmarked, e-mailed, or otherwise submitted no later than this date.

ADDRESSES: Paper copies and computer disks (CD) of the Draft EIS (about 450 pages) and Executive Summary are available by writing to: Attention: Project Manager, Mercury Management EIS; DNSC-E; Defense National Stockpile Center, 8725 John J. Kingman Road, Suite 3229, Fort Belvoir, VA 22060-6223, or calling toll free at 1-888-306-6682. Electronic versions of the Executive Summary and the Draft EIS are found on the internet at www.mercuryeis.com. Copies of the Draft EIS may also be reviewed at locations listed in the SUPPLEMENTARY INFORMATION section. Written comments on the Draft EIS should be sent to the above address, faxed to 1-888-306-8818, or posted to the Mercury Management EIS website at www.mercuryeis.com. Comments may be dictated by calling toll free at 1-888-306-6682.

FOR FURTHER INFORMATION: Requests for information can be made by: Leaving a voice message at 1-888-306-6682; faxing a message to 1-888-306-8818; e-mailing a request to information@mercuryeis.com; or accessing the Mercury Management EIS website at www.mercuryeis.com.

SUPPLEMENTARY INFORMATION: The Defense National Stockpile Center (DNSC) is responsible for the disposition of stockpiled materials declared in excess of national defense needs. The United States Congress has determined that the U.S. Department of Defense no longer needs to maintain a stockpile of mercury because of the increased use of mercury substitutes and because of increases in the nation's secondary mercury production through recovery and recycling. The DNSC excess mercury was offered for sale in open competitions until 1994 when concerns over mercury accumulation in the global environment prompted DNSC to suspend sales. The DNSC inventory of mercury (approximately 4,436 metric tons) is stored in enclosed warehouses at four sites in the United States: New Haven, IN (557 metric tons); Oak Ridge, TN (699 metric tons); Hillsborough, NJ (2,617 metric tons); and Warren, OH (564 metric tons).

As custodian of the mercury, DNSC must decide on a strategy for long-term management of this material. In compliance with NEPA and DLA Regulation 1000.22, “Environmental Considerations in DLA Actions in the United States,” DNSC has prepared the Draft EIS to evaluate the environmental impacts of a range of reasonable alternatives for long-term management (i.e., 40 years) of the excess mercury. The alternatives are: (1) No action, i.e., maintaining storage at the four existing sites; (2) consolidation and storage at one of the three current DNSC mercury storage sites or at one of three other candidate locations; and (3) sale of the mercury inventory. The agency's preferred alternative is (2) consolidated storage. The Draft EIS evaluates a range of locations that would be acceptable consolidation sites. If a site other than those evaluated is selected, further environmental analysis would be required.

The Draft EIS also describes the potential environmental, human health, and socioeconomic impacts of these alternatives, together with cost considerations. Several treatment technologies were considered as possible alternatives for mercury management. Based on the immaturity of bulk mercury treatment technologies and the lack of a U.S. Environmental Protection Agency (EPA) approved path forward, bulk treatment and disposal of elemental mercury is not considered viable at this time and is not evaluated in detail in the Draft EIS.

The Department of Energy (DOE) and Environmental Protection Agency (EPA) are cooperating agencies in the preparation of this Draft EIS. DOE is recognized because of their special expertise and because some of the DNSC excess mercury is stored at their Y-12 National Security Complex in Oak Ridge, Tennessee. EPA is recognized because of their special expertise in the areas of mercury fate and effects in the environment, mercury stabilization and disposal technologies, and the regulation of hazardous material.

This Draft EIS is being distributed for public review and copies are also available at the following locations:

Allen County Public Library, 435 Ann Street, New Haven, Indiana 46774.

Bridgewater Branch Library, N. Bridge Street and Vogt Drive, Bridgewater, New Jersey 08807.

Fairfax County Public Library, 12000 Government Center Parkway, Suite 324, Fairfax, VA 22035.

Ford Memorial Library, 7169 North Main Street, Ovid, New York 14521.

Hillsborough Public Library, 379 South Branch Road, Hillsborough, New Jersey 08844.

Martin Luther King Jr. Library, 901 G Street NW., Washington, DC 20001.

Mineral County Public Library, P.O. Box 1390, Hawthorne, Nevada 89415.

Oak Ridge Public Library, 1401 Oak Ridge Turnpike, Oak Ridge, TN 37830.

Raritan Valley Community College, Evelyn S. Field Library, North Branch, Route 28 and Lamington Road, Somerville, New Jersey 08876.

Seneca Army Depot, 5786 State Route 96, Building 123, Romulus, NY 14541.

Somerville Public Library, 35 West End Avenue, Somerville, New Jersey 08876.

Tooele City Public Library, 128 West Vine Street, Tooele, Utah 84074.

Warren-Trumbull County Public Library, 444 Mahoning Avenue, NW., Warren, Ohio 44483.

Waterloo Library and Historical Society, 31 East Williams Street, Waterloo, New York 13165.

West End Branch Library, 1101 24th and L Street, NW., Washington, DC 20037.

DNSC invites Federal agencies, state, local and tribal governments, and the general public to comment on the environmental and socioeconomic issues and the management alternatives addressed in the Draft EIS. The public comment period began with the publication of the EPA Notice of Availability in the Federal Register on April 11, 2003, and will continue until July 18, 2003. DNSC will consider all comments received or postmarked by the end of the comment period when preparing the Final Mercury Management EIS. Comments received after that date will be considered to the extent practicable. As part of the public review process, DNSC has scheduled public meetings at the following locations:

May 20, 2003, 6 to 9 p.m.

Park Hill Learning Center, 1000 Prospect Avenue, New Haven, Indiana.

May 22, 2003, 6 to 9 p.m.

McMenamy's Multipurpose Complex, 325 Youngstown-Warren Road, Niles, Ohio.

June 10, 2003, 6 to 9 p.m.

Hawthorne Convention Center, 932 E Street, Hawthorne, Nevada.

June 12, 2003, 6 to 9 p.m.

Tooele High School, 240 West 1st South, Tooele, Utah.

June 17, 2003, 6 to 9 p.m.

Hillsborough High School, 466 Raider Boulevard, Hillsborough, New Jersey.

June 24, 2003, 1 to 4 p.m.

Hall of States, 444 North Capitol Street, NW., Washington, DC.

July 1, 2003, 6 to 9 p.m.

Garden Plaza Hotel, 215 S. Illinois Avenue, Oak Ridge, Tennessee.

The registration desk and exhibit area at the meeting will open at 6 p.m. (1 p.m. for the Washington, DC meeting). DNSC staff will be available to explain exhibits, provide information materials, and answer questions. At 7 p.m. (2 p.m. for the Washington, DC meeting), DNSC will provide a short presentation on the EIS process and the Mercury Management EIS. Following the DNSC presentation, elected or appointed officials, organizations, and individuals will be invited to offer comments. Comments will be recorded for the record. Speakers will be allotted five minutes each. The meetings will be managed by a facilitator who will help keep the focus on obtaining public input on the content of the Draft EIS. At 8:30 p.m. (3:30 p.m. for the Washington, DC meeting), the public comment portion of the meeting will conclude and the exhibit area will reopen. DNSC staff will be available to explain exhibits, provide information materials, and answer questions. The meeting will end at 9 p.m. (4 p,m. for the Washington, DC meeting).

Requests to speak at the meetings may be made by writing to the Mercury Management EIS project manager (see ADDRESSES, above), by calling the toll free phone number (888-306-6682) by 4 p.m. EST the day before the meeting, or in person at the meeting. If you phone in to pre-register, please leave your name, the organization you represent, and the location of the meeting you plan to attend. Speakers will be heard on a first-come, first-served basis as time permits. Speakers do not have to pre-register, but pre-registered speakers will be ensured an opportunity to speak. Comments will be transcribed by a court reporter and will become a part of the meeting record. Speakers are encouraged to provide written versions of their spoken comments. The facilitator and DNSC staff may ask questions to clarify the speaker's comments.

Written comments will be accepted at the meetings and comment forms will be provided for this purpose. For those who prefer to dictate comments before or after the formal comment portion of the meeting, a court reporter will be available in the exhibit area until the meeting closes.

All meeting facilities are handicapped accessible. A hearing impaired sign language interpreter will be provided at all meetings. Persons who have other special requirements should contact the Project Manager in advance so that arrangements may be made to accommodate their needs.

Input from the public meetings along with comments received by other means (i.e., mail, phone, fax, email, and website) will be used by DNSC in preparing the Final Mercury Management EIS. Written and spoken comments will be given equal weight. The Final Mercury Management EIS will be distributed to information repositories, mailed out upon request, and can be viewed at www.mercuryeis.com.

Issued in Fort Belvoir, VA, on this 7th day of April 2003.
Cornel A. Holder,
Administrator, Defense National Stockpile Center.

[FR Doc. 03-8507 Filed 4-10-03; 8:45 am]

BILLING CODE 3620-01-U